DEPARTMENT OF LABOR

Employment and Training Administration

[TA-W-55,197]

Kaz, Newbern, TN; Notice of Termination of Investigation

Pursuant to section 221 of the Trade Act of 1974, as amended, an investigation was initiated on July 6, 2004, in response to a petition filed on behalf of workers at Kaz, Newbern, Tennessee.

The petitioners have requested that the petition be withdrawn. Consequently, the investigation has been terminated.

Signed at Washington, DC, this 19th day of July, 2004.
Linda G. Poole,
Certifying Officer, Division of Trade Adjustment Assistance.

[FR Doc. 04-17602 Filed 8-2-04; 8:45 am]

BILLING CODE 4510-30-P